Title 3—

The President

Proclamation 9146 of June 30, 2014

50th Anniversary of the Civil Rights Act

By the President of the United States of America

A Proclamation

Few achievements have defined our national identity as distinctly or as powerfully as the passage of the Civil Rights Act. It transformed our understanding of justice, equality, and democracy and advanced our long journey toward a more perfect Union. It helped bring an end to the Jim Crow era, banning discrimination in public places; prohibiting employment discrimination on the basis of race, color, religion, sex, or national origin; and providing a long-awaited enforcement mechanism for the integration of schools. A half-century later, we celebrate this landmark achievement and renew our commitment to building a freer, fairer, greater society.

Through the lens of history, the progress of the past five decades may seem inevitable. We may wish to remember our triumphs while erasing the pain and doubt that came before. Yet to do so would be a disservice to the giants who led us to the mountaintop, to unsung heroes who left footprints on our National Mall, to every American who bled and died on the battlefield of justice. In the face of bigotry, fear, and unyielding opposition from entrenched interests, their courage stirred our Nation's conscience. And their struggle helped convince a Texas Democrat who had previously voted against civil rights legislation to become its new champion. With skillful charm and ceaseless grit, President Lyndon B. Johnson shepherded the Civil Rights Act through the Congress—and on July 2, 1964, he signed it into law.

While laws alone cannot right every wrong, they possess an unmatched power to anchor lasting change. The Civil Rights Act threw open the door for legislation that strengthened voting rights and established fair housing standards for all Americans. Fifty years later, we know our country works best when we accept our obligations to one another, embrace the belief that our destiny is shared, and draw strength from the bonds that hold together the most diverse Nation on Earth.

As we reflect on the Civil Rights Act and the burst of progress that followed, we also acknowledge that our journey is not complete. Today, let us resolve to restore the promise of opportunity, defend our fellow Americans' sacred right to vote, seek equality in our schools and workplaces, and fight injustice wherever it exists. Let us remember that victory never comes easily, but with iron wills and common purpose, those who love their country can change it.

NOW, THEREFORE, I, BARACK OBAMA, President of the United States of America, by virtue of the authority vested in me by the Constitution and the laws of the United States, do hereby proclaim July 2, 2014, as the 50th Anniversary of the Civil Rights Act. I call upon all Americans to observe this day with programs, ceremonies, and activities that celebrate this accomplishment and advance civil rights in our time.

IN WITNESS WHEREOF, I have hereunto set my hand this thirtieth day of June, in the year of our Lord two thousand fourteen, and of the Independence of the United States of America the two hundred and thirty-eighth.

[FR Doc. 2014-15835

Filed 7-2-14; 11:15 am]

Billing code 3295-F4